DEPARTMENT OF THE INTERIOR

Bureau of Indian Affairs

Advisory Board for Exceptional Children

AGENCY: Bureau of Indian Affairs, Interior.

ACTION: Notice of meeting.

SUMMARY: The Bureau of Indian Education (BIE) is announcing that the Advisory Board for Exceptional Children (Advisory Board) will hold its next meeting in Washington, DC. The purpose of the meeting is to meet the mandates of the Individuals with Disabilities Education Act of 2004 (IDEA) for Indian children with disabilities.

DATES: The Advisory Board will meet on Thursday, January 10, 2013, from 9:00 a.m. to 5:00 p.m. and Friday, January 11, 2013, from 9:00 a.m. to 5:00 p.m. Eastern Time.

ADDRESSES: The meeting will be held at 1849 C Street NW., Main Interior Building, Room 3624, Washington, DC; telephone number (202) 208-6123.

FOR FURTHER INFORMATION CONTACT: Sue Bement, Designated Federal Officer, Bureau of Indian Education, Albuquerque Service Center, Division of Performance and Accountability, 1011 Indian School Road NW., Suite 332, Albuquerque, NM 87104; telephone number (505) 563-5274.

SUPPLEMENTARY INFORMATION: In accordance with the Federal Advisory Committee Act, the BIE is announcing that the Advisory Board will hold its next meeting in Washington, DC. The Advisory Board was established under the Individuals with Disabilities Education Act of 2004 (20 U.S.C. 1400 et seq.) to advise the Secretary of the Interior, through the Assistant Secretary—Indian Affairs, on the needs of Indian children with disabilities. The meetings are open to the public.

The following items will be on the agenda:

• Report from Acting BIE Director;

• Report from Supervisory Education Specialist, Special Education, BIE, Division of Performance and Accountability;

• Updates from the BIE, Division of Performance and Accountability;

• Group work on Board Priorities;

• Stakeholder Input on the BIE Special Education Annual Performance Report;

• Public Comment (via conference call, January 11, 2013, meeting only *); and

* During the January 11, 2013 meeting, time has been set aside for public comment via conference call from 1:00 p.m. to 1:30 p.m. Eastern Time. The call-in information is: Conference Number 1-888-417-0376, Passcode 1509140.

• BIE Advisory Board—Advice and Recommendations.

Dated: November 20, 2012.
Kevin K. Washburn,
Assistant Secretary—Indian Affairs.

[FR Doc. 2012-28692 Filed 11-26-12; 8:45 am]

BILLING CODE 4310-6W-P